DEPARTMENT OF ENERGY

Federal Energy Regulatory Commission

[Docket No. EL08-11-000]

TransCanada Power Marketing Ltd., Complainant v. ISO New England Inc., Respondent; Notice of Complaint Filing

November 21, 2007.

Take notice that on November 19, 2007, pursuant to sections 206 and 306 of the Federal Power Act, 16 U.S.C. 824e and 825e, and Rule 206 of the Rules of Practice and Procedure, 18 CFR 385.206, TransCanada Power Marketing Ltd. (Complainant) filed a formal complaint against ISO New England Inc. (Respondent) alleging that the Respondent de-list a portion of the Complainant's capacity, making that capacity ineligible to participate in the first Forward Capacity Auction (FCA) in the Forward Capacity Market (FCM) in contradiction of the rules that the Commission approved for qualifying capacity for the FCA for New England in Devon Power LLC, 115 FERC ¶ 61,340, order on reh'g, 117 FER ¶ 61,133 (2006). The Complainant is requesting the Commission to order the Respondent to accept the Complainant's composite designation of 6.222 MW of qualified capacity as a Self-Supplied FCA Resource for participation in the first Forward Capacity Auction conducted in furtherance of the FCM that has been established for New England.

The Complainant has requested fast track processing.

The Complainant states that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 3, 2007.

Kimberly D. Bose,
Secretary.

[FR Doc. E7-23148 Filed 11-28-07; 8:45 am]

BILLING CODE 6717-01-P